FEDERAL COMMUNICATIONS COMMISSIONS

Technological Advisory Council Meeting Postponed

AGENCY: Federal Communications Commission.

ACTION: Notice of postponement of public meeting.

SUMMARY: In accordance with the Federal Advisory Committee Act, 5 U.S.C. App. 2, Public Law 92-463, as amended, this notice advises interested persons that the meeting of the Technological Advisory Council scheduled for October 25, 2006 has been postponed. A new date will be announced.

FOR FURTHER INFORMATION CONTACT: Julius Knapp at 202-418-2468, TTY 202-418-2989, or e-mail Julius.Knapp@fcc.gov.

Federal Communications Commission.
Marlene H. Dortch,
Secretary.

[FR Doc. E6-18065 Filed 10-31-06; 8:45 am]

BILLING CODE 6712-01-P